DEPARTMENT OF ENERGY

Federal Energy Regulatory Commission

[Docket No. EL19-58-003]

PJM Interconnection, LLC; Notice of Filing

Take notice that on August 5, 2020, PJM Interconnection, LLC submitted a filing in compliance with the Federal Energy Regulatory Commission's (Commission) Order on Proposed Tariff Revisions and Operating Agreement Revisions, in the above captioned proceeding, on May 21, 2020.¹

¹ PJM Interconnection, L.L.C., 171 FERC 61,153 (2020) (May 21 Order).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the eFiling link at http://www.ferc.gov. Persons unable to file electronically should submit an original and 5 copies of the protest or intervention to the Federal Energy Regulatory Commission, 888 First Street NE, Washington, DC 20426.

In addition to publishing the full text of this document in the Federal Register, the Commission provides all interested persons an opportunity to view and/or print the contents of this document via the internet through the Commission's Home Page (http://www.ferc.gov) using the eLibrary link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Comment Date: 5:00 p.m. Eastern Time on August 26, 2020.

Dated: August 11, 2020.
Kimberly D. Bose,
Secretary.

[FR Doc. 2020-17914 Filed 8-14-20; 8:45 am]

BILLING CODE 6717-01-P